COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: February 27, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, fax: (703) 603-0655, or e-mail SKennerly@jwod.gov.

SUPPLEMENTARY INFORMATION:

Additions

On October 29, December 3, and December 17, 2004, the Committee for Purchase From People Who Are Blind or Severely Disabled published notice (69 FR 63139, 70222/23, and 75507) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Folder, File, Classification, 7530-01-011-9454.

NPA: Georgia Industries for the Blind, Bainbridge, Georgia.

Contracting Activity: Office Supplies & Paper Products Acquisition Center New York, New York.

Product/NSN: Mass Casualty First Aid Kit, USAF, 6545-01-525-9821—Mass Casualty Bag, 6545-01-525-9847—Trauma Module, 6545-01-525-9849—Minor Module, 6545-01-526-0062—Splint Module, 6545-01-526-0065—CPR Module, 6545-01-526-0423—Mass Casualty First Aid Kit.

NPA: Chautauqua County Chapter, NYSARC, Jamestown, New York.

Contracting Activity: U.S. Air Force—AFMLO/USAF, Frederick, Maryland.

Contracting Activity: Defense Supply Center Philadelphia, Philadelphia, Pennsylvania.

Services

Service Type/Location: Custodial & Grounds Maintenance, South Eastern Regional Archives, 5780 Jonesboro Road, Morrow, Georgia.

NPA: Goodwill Industries of North Georgia, Inc., Atlanta, Georgia.

Contracting Activity: National Archives & Records Administration, College Park, Maryland.

Service Type/Location: Document Destruction, Internal Revenue Service, NISH, Vienna, Virginia (Prime Contractor). Performance to be allocated to the Nonprofit Agencies identified at the following locations: 101 Park Deville Drive, Columbia, Missouri; 919 Jackson Street, Chillicothe, Missouri; 3702 W. Truman Blvd, Jefferson City, Missouri.

NPA: Independence and Blue Springs Industries, Inc., Independence, Missouri; 137 S. Broadview, Cape Girardeau, Missouri; 2725 N. Westwood Blvd, Poplar Bluff, Missouri.

NPA: Cape Girardeau Community Sheltered Workshop, Inc., Cape Girardeau, Missouri; 12941 I-45 North, Houston, Texas; 8876 Gulf Freeway, Houston, Texas; 8701 South Gessner (Alliance Tower), Houston, Texas; 1919 Smith Street (G. T. “Mickey” Leland Federal Building) Houston, Texas; 350 Pine Street (Petroleum Tower), Beaumont, Texas.

NPA: Austin Task, Inc., Austin, Texas, 4050 Alpha Road, Farmers Branch, Texas; 1801 N. Hampton Road (DeSoto State Bank Building), DeSoto, Texas; 1100/1114 Commerce Street (Earle Cabell Federal Building Complex) Dallas, Texas; 2601 Meacham Blvd (FAA Building), Fort Worth, Texas; 819 Taylor Street (U.S. Federal Courthouse), Fort Worth, Texas.

NPA: Expanco, Inc., Fort Worth, Texas; 1800 NW Loop 821 (Bank Building Office Center), Longview, Texas; 909 ESE Loop 323 (Commerce Square III), Tyler, Texas.

NPA: Goodwill Industries—Opportunities in Tyler, Tyler, Texas.

Contract Activity: IRS—Western Area Procurement Branch—APFW, San Francisco, California.

Service Type/Location: Laundry Service, U.S. Mint, 155 Hermann Street, San Francisco, California.

NPA: Toolworks, Inc., San Francisco, California.

Contracting Activity: U.S. Mint, San Francisco, California.

Deletions

On December 3, 2004, the Committee for Purchase From People Who Are Blind or Severely Disabled published notice (69 FR 70223) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Power Duster, 7045-00-NIB-0164, 7045-00-NIB-0165, 7045-00-NIB-0166.

NPA: Lighthouse for the Blind, St. Louis, Missouri.

Contracting Activity: Office Supplies & Paper Products Acquisition Center, New York, New York.

Product/NSN: Tape, Electronic Data Processing, 7045-00-377-9235.

NPA: North Central Sight Services, Inc., Williamsport, Pennsylvania.

Contracting Activity: Defense Supply Center Columbus, Columbus, Ohio.

Sheryl D. Kennerly,
Director, Information Management.

[FR Doc. 05-1646 Filed 1-27-05; 8:45 am]

BILLING CODE 6353-01-P